DEPARTMENT OF LABOR

Employment and Training Administration

[TA-W-57,230]

Lear Automotive Manufacturing, LLC, Monroe, MI; Dismissal of Application for Reconsideration

Pursuant to 29 CFR 90.18(C) an application for administrative reconsideration was filed with the Director of the Division of Trade Adjustment Assistance for workers at Lear Automotive Manufacturing, LLC, Monroe, Michigan. The application contained no new substantial information which would bear importantly on the Department's determination. Therefore, dismissal of the application was issued.

TA-W-57,230; Lear Automotive Manufacturing, LLC Monroe, Michigan (August 31, 2005)

Signed at Washington, DC, this 31st day of August, 2005.
Terrance Clark,
Acting Director, Division of Trade Adjustment Assistance.

[FR Doc. E5-4881 Filed 9-7-05; 8:45 am]

BILLING CODE 4510-30-P